ENVIRONMENTAL PROTECTION AGENCY

[FRL-8760-7]

Notice of Availability of the Final White Paper on Integrated Modeling for Integrated Environmental Decision Making

AGENCY: Environmental Protection Agency (EPA).

ACTION: Notice of Document Availability.

SUMMARY: The U.S. Environmental Protection Agency (EPA) is announcing the availability of the final White Paper on Integrated Modeling for Integrated Environmental Decision Making (EPA 100/R-08/010, November 2008.

In pursuing its mission to protect human health and to safeguard the natural environment, the U.S. Environmental Protection Agency often relies on environmental models. The EPA defines a model as a “simplification of reality that is constructed to gain insights into select attributes of a particular physical, biological, economic, or social system.” While traditionally environmental modeling has focused on considering a single pollutant in a single environmental medium, this approach is no longer viewed as sufficient for effective environmental management decision support. It is increasingly recognized that a holistic approach to modeling the environment and the mechanisms governing the fate and transport of pollutants through the different environmental media as well as the multiple exposure pathways and the consequent responses of humans and ecosystems, is required to adequately assess and address environmental problems. Integrated modeling is thus of importance to helping EPA consider the environment as a “single, interrelated system”. Integrated modeling encompasses a broad range of approaches and configurations of models, data and assessment methods to describe and analyze complex environmental problems, often in a multimedia and multidisciplinary manner.

This staff white paper recommends a commitment to a new direction in environmental modeling and decision making, one that adopts a systems thinking approach. This approach EPA will be able to significantly improve its ability to conduct scientific analyses in support of integrated decision making. The result will be implementing more efficient, effective and equitable policies and programs to advance environmental protection as well as economic prosperity. This white paper: (1) Outlines the need for and value of integrated modeling for EPA science and decision-making; (2) analyzes the state of the art and practice of integrated modeling and include examples of how this approach has been successfully applied and the lessons learned; (3) identifies the challenges to more fully implementing this approach in the future; and (4) presents a plan to create an enabling environment to facilitate a concerted, systematic, and stable approach to the development and application of integrated modeling for integrated decision making.

ADDRESSES: The final document is available electronically through the CREM Web site at: http://www.epa.gov/crem/integrated-model-paper.html.

FOR FURTHER INFORMATION CONTACT: Dr. Noha Gaber, Council for Regulatory Environmental Modeling, Office of the Science Advisor, 1200 Pennsylvania Ave., NW., Mail Code: 8105R, Washington, DC 20460; by telephone/voice mail at (202) 564-2179; Fax: (202) 564-2070; or via e-mail at gaber.noha@epa.gov.

SUPPLEMENTARY INFORMATION: To achieve its mission of protecting human health and safeguarding the natural environment, the U.S. EPA often employs mathematical models to study environmental systems and processes and to inform regulatory decision making. The U.S. EPA established the Council for Regulatory Environmental Modeling (CREM) in 2000 in an effort to improve the quality, consistency and transparency of EPA models. Recognizing the policy demand for systems integration, the CREM initiated a series of activities to foster the development and application of integrated modeling. The CREM kicked off this series of integrated modeling-focused activities by convening an EPA-wide workshop on Integrated Modeling for Integrated Environmental Decision Making, held in January 2007. The workshop discussions highlighted the need for a coordinated and harmonized approach to integrated modeling and an institutional vision and workplan to help overcome the scientific, technological and organizational challenges impeding the effective use of integrated models. Building on this successful workshop, an Agency White Paper on “Integrated Modeling for Integrated Environmental Decision Making” (hereafter White Paper) was developed. The strategic vision and action plan proposed in the White Paper outline a set of recommended activities to overcome the science, information technology and organizational challenges facing a more consistent and coordinated implementation of integrated modeling to inform decision making at EPA.

In addition to internal review within Agency offices and regions, the White Paper was also evaluated and approved by the EPA's Science Policy Council, the Agency's forum for senior level policy deliberation and coordination on significant science issues. It has also undergone an independent external review process through the National Advisory Council on Environmental Policy and Technology (NACEPT). In its advice letter to the Agency NACEPT highlighted their finding that “integrated modeling is a significant cross-cutting science and technology tool”, endorsed the White Paper and offered some recommendations for the Agency to move forward to implement the action plan proposed in the White Paper. The NACEPT advice letter may be found here: http://www.epa.gov/ocem/nacept/reports/pdf/nacept-im-final-advice-letter-092208.pdf.

Dated: January 5, 2009.
George Gray,
EPA Science Advisor.

[FR Doc. E9-355 Filed 1-9-09; 8:45 am]

BILLING CODE 6560-50-P